DEPARTMENT OF DEFENSE

Office of the Secretary

Meeting of the Defense Advisory Committee on Women in the Services (DACOWITS)

AGENCY: Department of Defense.

ACTION: Notice.

SUMMARY: The Department of Defense is publishing this notice to announce that the following Federal Advisory Committee meeting of the Defense Advisory Committee on Women in the Services (DACOWITS) will take place. This meeting is open to the public.

DATES: Thursday, March 13, 2014, from 8:30 a.m. to 3:45 p.m.; Friday, March 14, 2014, from 8:30 a.m. to 11:45 a.m.

ADDRESSES: Sheraton National Hotel-Pentagon City, 900 South Orme St., Arlington, VA 22204.

FOR FURTHER INFORMATION CONTACT: Mr. Robert Bowling or DACOWITS Staff at 4000 Defense Pentagon, Room 5A734, Washington, D.C. 20301-4000. Robert.d.bowling1.civ@mail.mil. Telephone (703) 697-2122. Fax (703) 614-6233.

SUPPLEMENTARY INFORMATION: Pursuant to the Federal Advisory Committee Act of 1972 (5 U.S.C. Appendix, as amended), the Government in the Sunshine Act of 1976 (5 U.S.C. 552b), and Section 10(a), Public Law 92-463, as amended, notice is hereby given of a forthcoming meeting of the Defense Advisory Committee on Women in the Services (DACOWITS).

The purpose of the meeting is for the Committee to receive briefings and updates relating to their current work. The Committee will receive briefings from the U.S. Marine Corps on the Combat Fitness Test and an update on the WISR Implementation Pillar One. The Navy will provide an update on Female Integration into the Submarine Service. The Army/USSOCOM will provide a briefing on the Examination of Cultural Factors with regard to Female Integration. The Committee will also receive briefings from the Services on the Accession of Enlisted Women. Additionally, the Committee will hold ceremonies recognizing Committee members. The Committee will also receive a briefing on Sexual Assault Provisions in NDAA 2014. Finally, the Committee will receive a briefing on the Sexual Harassment Complaints Process. The public portion on the meeting will wrap up with a public comment period.

Pursuant to 41 CFR 102-3.105(j) and 102-3.140, and section 10(a)(3) of the Federal Advisory Committee Act of 1972, interested persons may submit a written statement for consideration by the Defense Advisory Committee on Women in the Services. Individuals submitting a written statement must submit their statement to the point of contact listed at the address in FOR FURTHER INFORMATION CONTACT no later than 5:00 p.m., Tuesday, March 11, 2014. If a written statement is not received by Tuesday, March 11, 2014, prior to the meeting, which is the subject of this notice, then it may not be provided to or considered by the Defense Advisory Committee on Women in the Services until its next open meeting. The Designated Federal Officer will review all timely submissions with the Defense Advisory Committee on Women in the Services Chair and ensure they are provided to the members of the Defense Advisory Committee on Women in the Services. If members of the public are interested in making an oral statement, a written statement should be submitted. After reviewing the written comments, the Chair and the Designated Federal Officer will determine who of the requesting persons will be able to make an oral presentation of their issue during an open portion of this meeting or at a future meeting. Pursuant to 41 CFR 102-3.140(d), determination of who will be making an oral presentation is at the sole discretion of the Committee Chair and the Designated Federal Officer and will depend on time available and if the topics are relevant to the Committee's activities. Two minutes will be allotted to persons desiring to make an oral presentation. Oral presentations by members of the public will be permitted only on Friday March 14, 2014 from 11:15 a.m. to 11:45 a.m. in front of the full Committee. The number of oral presentations to be made will depend on the number of requests received from members of the public.

Pursuant to 5 U.S.C. 552b and 41 CFR 102-3.140 through 102-3.165, this meeting is open to the public, subject to the availability of space.

Meeting Agenda

Thursday, March 13, 2014, From 8:30 a.m. to 3:45 p.m.

—Welcome, Introductions, Announcements

—Briefing—Request for Information Update

—Briefing—USMC Combat Fitness Test (CFT) Briefing

—Briefing—USMC Update on WISR Implementation Pillar One

—Briefing—Navy Update on Female Integration into Submarine Service

—Briefing—Army/USSOCOM Briefing on Examination of Cultural Factors With Regard to Female Integration

—Briefing—Services Briefings on Accession of Enlisted Women

—Recognition of Committee Members

Friday, March 14, 2014, From 8:30 a.m. to 11:45 a.m.

—Welcome and Announcements

—Briefing—Sexual Assault Provisions in NDAA 2014 Briefing

—Briefing—Sexual Harassment Complaints Process Briefing

—Public Comment Period

Dated: February 19, 2014.
Aaron Siegel,
Alternate OSD Federal Register Liaison Officer, Department of Defense.

[FR Doc. 2014-03814 Filed 2-21-14; 8:45 am]

BILLING CODE 5001-06-P